ENVIRONMENTAL PROTECTION AGENCY

[EPA-HQ-OPP-2021-0083; FRL-10021-45]

Pesticide Product Registration; Receipt of Applications for New Active Ingredients (March 2021)

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 23, 2021.

ADDRESSES: Submit your comments, identified by docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Charles Smith, Biopesticides and Pollution Prevention Division (BPPD) (7511P), main telephone number: (703) 305-7090, email address: BPPDFRNotices@epa.gov; or Anita Pease, Antimicrobials Division (AD) (7510P), main telephone number: (703) 305-7090, email address: ADFRNotices@epa.gov. The mailing address for each contact person is: Office of Pesticide Programs, Environmental Protection Agency, 1200 Pennsylvania Ave. NW, Washington, DC 20460-0001. As part of the mailing address, include the contact person's name, division, and mail code. The division to contact is listed at the end of each registration summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI, and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

Notice of Receipt—New Active Ingredients

1. File symbol: 524-AAG. Docket ID number: EPA-HQ-OPP-2020-0547. Applicant: Bayer CropScience LP, 800 N. Lindbergh Blvd., St. Louis, MO 63167. Product name: MON 95379. Active ingredients: Plant-incorporated Protectant Insecticides—Bacillus thuringiensis Cry1B.868 protein and the genetic material (Vector PV-ZMIR522223) necessary for its production in MON 95379 corn at ≤0.036% and Bacillus thuringiensis Cry1Da_7 protein and the genetic material (Vector PV-ZMIR522223) necessary for its production in MON 95379 corn at ≤0.01%. Proposed use: Plant-incorporated protectants to control lepidopteran pests in corn planted on a maximum total acreage of 100 acres per growing season for breeding operations across the states of Nebraska, Hawaii, and Iowa. Contact: BPPD.

2. File symbol: 86431-GA. Docket ID number: EPA-HQ-OPP-2020-0688. Applicant: Advanced Biological Marketing, 375 Bonnewitz Ave., Van Wert, OH 45891. Product name: ABM K5 oilLQ. Active ingredient: Fungicide and Nematicide—Trichoderma atroviride strain K5 NRRL B-50520 at 0.68%. Proposed use: For control or suppression of plant diseases or nematodes of various crops (e.g., oilseeds and legume vegetables) in agricultural or commercial settings via seed treatment, in-furrow application, chemigation, transplant water, or root dip. Contact: BPPD.

3. File symbol: 86431-GL. Docket ID number: EPA-HQ-OPP-2020-0688. Applicant: Advanced Biological Marketing, 375 Bonnewitz Ave., Van Wert, OH 45891. Product name: ABM K5 Technical. Active ingredient: Fungicide and Nematicide—Trichoderma atroviride strain K5 NRRL B-50520 at 100%. Proposed use: For manufacturing use. Contact: BPPD.

4. File symbol: 86431-GU. Docket ID number: EPA-HQ-OPP-2020-0688. Applicant: Advanced Biological Marketing, 375 Bonnewitz Ave., Van Wert, OH 45891. Product name: ABM K5 EP#11. Active ingredient: Fungicide and Nematicide—Trichoderma atroviride strain K5 NRRL B-50520 at 0.68%. Proposed use: For control or suppression of plant diseases or nematodes of various crops (e.g., oilseeds and legume vegetables) in agricultural or commercial settings via seed treatment, in-furrow application, chemigation, transplant water, or root dip. Contact: BPPD.

5. File symbol: 91810-G. Docket ID number: EPA-HQ-OPP-2021-0140. Applicant: Lesaffre Yeast Corporation, 7475 West Main St., Milwaukee, WI 53214. Product name: Julietta. Active ingredient: Bactericide and fungicide—Saccharomyces cerevisiae strain LAS02 at 96.1%. Proposed use: For preventative use against pathogens of various plants (e.g., fruiting vegetables and pome fruit) in agricultural settings via foliar spray. Contact: BPPD.

6. File symbol: 91868-E. Docket ID number: EPA-HQ-OPP-2021-0165. Applicant: Biotalys NV, Technologiepark 94, 9052 Ghent, Belgium (c/o SciReg, Inc., 12733 Director's Loop, Woodbridge, VA 22192). Product name: EVOCA. Active ingredient: Fungicide—ASFBIOF01-02 at 15.0%. Proposed use: Fungicide. Contact: BPPD.

7. File symbol: 91868-R. Docket ID number: EPA-HQ-OPP-2021-0165. Applicant: Biotalys NV, Technologiepark 94, 9052 Ghent, Belgium (c/o SciReg, Inc., 12733 Director's Loop, Woodbridge, VA 22192). Product name: ASFBIOF01-02 AGROBODY. Active ingredient: Fungicide—ASFBIOF01-02 at 2%. Proposed use: Technical grade active ingredient. Contact: BPPD.

8. File symbol: 94387-R. Docket ID number: EPA-HQ-OPP-2021-0071. Applicant: Lucebni Zavody Draslovka A.S. Kolin c/o Mountain View Advisory, LLC, P.O. Box 1648, Estes Park, CO 80517. Product name: EDN. Active ingredient: Preventive wood preservative—Ethanedintrile at 98.78%. Proposed use: End use product for use as preventive wood preservative treatment of freshly cut timber (lumber) and logs under sealed air-tight conditions under tarpaulins or containers for the control of wood colonizing and decaying fungi, fungal rot, sapstain wood fungi, and certain wood-destroying insects and nematodes. Contact: AD.

9. File symbol: 95699-R. Docket ID number: EPA-HQ-OPP-2020-0480. Applicant: NewLeaf Symbiotics, 1005 North Warson Rd., Ste. 102, St. Louis, MO 63132. Product name: TS601. Active ingredient: Fungicide—Methylorubrum populi strain NLS0089 at 2.0%. Proposed use: For suppression of diseases of plants (e.g., cereal grains, hemp, and hops) in agricultural or commercial settings via foliar spray, soil treatment, or seed treatment. Contact: BPPD.

Authority: 7 U.S.C. 136 et seq.

Dated: March 11, 2021.
Delores Barber,
Director, Information Technology and Resources Management Division, Office of Program Support.

[FR Doc. 2021-06078 Filed 3-23-21; 8:45 am]

BILLING CODE 6560-50-P